DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) allow the proposed information collection project: ``CAHPS II Reports Laboratory Experiment''. This experiment will assess the impact of improved data displays on consumers' understanding and use of reports of health care quality. In accordance with the Paperwork Reduction Act of 1995, 44 U.S.C. 3506(c)(2)(A), AHRQ invites the public to comment on this proposed information collection.

This proposed information collection was previously published in the Federal Register on February 19, 2004 and allowed 60 days for public comment. No public comments were received. The purpose of this notice is to allow an additional 30 days for public comment.

DATES: Comments on this notice must be received by June 22, 2004.

ADDRESSES: Written comments should be submitted to: Cynthia D. McMichael, Reports Clearance Officer, AHRQ, 5640 Gaither Road, Suite 5022, Rockville, MD 20850.

FOR FURTHER INFORMATION CONTACT: Cynthia D. McMichael, AHRQ, Reports Clearance Officer, (301) 427-1651.

SUPPLEMENTARY INFORMATION:

Proposed Project “CAHPS II Reports Laboratory Experiment”

CAHPS II Reports Laboratory Experiment is designed to assess the impact of improved data displays on consumers' understanding and use of reports of health care quality and tests the impact of alternative design features.

Getting consumers to pay attention to and use comparative quality information continues to be a major challenge to CAHPS and other quality reporting efforts, including efforts by the Centers for Medicare & Medicaid Services (CMS) and the National Committee for Quality Assurance (NCQA), and others. We need to learn more about ways to maximize the likelihood that consumers of health services will look at and pay attention to quality information, understand and interpret it accurately, use the information appropriate, and make “effective” choices based on the information.

This study will test the impact of alternative design features on user comprehension of available health care quality information and on its saliency to user decision-making. The study will assess ease of navigation of alternative approaches and consumers' stated preferences among the choices offered.

Study participants will be persons between 25-70 years old who have health insurance and have had a visit to a doctor in the last 12 months. The quality information presented to study participants in this laboratory experiment evaluating design alternatives will consist of mock data on consumers' assessments of the care provided by their physicians. The quality information will contain measures of physician performance, with candidate measures including how well the doctor scored on (1) listening carefully to patients; (2) giving explanations that are easy to understand; (3) spending enough time with patients; and (4) treating patients with courtesy and respect. The quality information also will include ratings of doctor's staff, for example, office staff that are as helpful as they should be and office staff who treat patients with courtesy and respect.

Finally, the quality information will include measures of access to care, such as being able to make appointments as soon as needed, a reasonable amount of time waiting in the doctor's office, and access to extended hours of service. The exact quality measures on which we will present information will be determined during preliminary testing.

Data Confidentiality Provisions

To protect subject confidentiality, the following procedures will be employed:

• Upon arriving at the testing location and prior to participation, each subject will receive and sign the consent form, approved by the grantee's Institutional Review Boards, that contains information about their rights as a subject and the measures being taken to safeguard confidentiality. A test administrator will verbally repeat and explain the information in the form at the beginning of the testing session. Subjects will be informed that their participation is voluntary and that they have the right to refuse to answer any questions or to stop participating at any point during the testing session.

• All subject materials will be marked with a unique ID number, rather than the subject's names. Subjects' names will never be linked with their individual answers. Any information linking subject names and ID numbers will be kept in a secure location and will be accessible only to members of the project team. Subject names will not be shares with anyone outside of the project team.

• All information will be aggregated and reported at the group, rather than the individual, level.

• During portions of the testing session that will be video-taped (i.e., the taping of the “choose a doctor” and comprehension questions to gather timing data), we will refer to the subjects by first name only. The videotapes will be marked with subject ID numbers and will be stored in a secure location. The tapes will be used only for analysis purposes by project team members.

• Subjects will be informed that participation is voluntary.

• All completed subject materials (e.g., recruitment screeners, questionnaires, tapes, consent forms, incentive receipt forms) will be kept in a secure location accessible only to members of the project team.

• All completed questionnaires, video tapes and other subject materials will be destroyed no later than 12 months following the end of the CAHPS II project.

Methods of Collection

The data will be collected using a pencil and paper.

Estimated Annual Respondent Burden

Survey | Number of respondents | Estimated time per respondent hours | Estimated total burden hours | Estimated annual cost to the government
A. Potential participants who did not enroll in study | 100 | .10 | 10 | $1000
B. Potential participants who did enroll in study | 350 | .25 | 62.5 | 6250
C. Actual number of participants in laboratory experiment (subset of B) | 210 | 2.0 | 420 | 39500
Total (A+B) | 350 | 1.4 | 492.5 | 46,750

Request for Comments

In accordance with the above cited Paperwork Reduction Act legislation, comments on AHRQ's information collection are requested with regard to any of the following: (a) Whether the proposed collection of information is necessary for the proper performance of functions of AHRQ, including whether the information will have practical utility; (b) the accuracy of AHRQ's estimate of burden (including ours and cost) of the proposed collection of information; (c) ways to enhance the quality, utility and clarity of the information to be collected; and (d) ways to minimize the burden of the collection of information upon the respondents, including the use of automated collection techniques or other forms of information technology.

Comments submitted in response to this notice will be summarized and included in the request for OMB approval of the proposed information collection. All comments will become a matter of public record.

Dated: April 2, 2004.
Carolyn M. Clancy,
Director

[FR Doc. 04-9191 Filed 4-22-04; 8:45 am]

BILLING CODE 4160-90-M